INTERNATIONAL TRADE COMMISSION

[Investigation No. 1205-10]

Recommendations To Modify Chapters 29, 30, 37, and 85 of the Harmonized Tariff Schedule of the United States

AGENCY: United States International Trade Commission.

ACTION: Notice of institution of investigation, proposed recommendations, and procedures to be followed.

SUMMARY: The United States International Trade Commission (Commission) is instituting investigation No. 1205-10 for the purpose of making recommendations to the President with respect to modifying provisions of chapters 29, 30, 37, and 85 of the Harmonized Tariff Schedule of the United States (HTS). The goods involved include certain sensitized photographic film, video game console controllers, and chemical compounds. The Commission's proposed recommendations follow as an annex to this notice.

DATES:

February 22, 2013: Deadline for filing written views on proposed Commission recommendations.

April 24, 2013: Transmittal of report to the President containing Commission recommendations.

ADDRESSES: All Commission offices are located in the United States International Trade Commission Building, 500 E Street SW., Washington, DC 20436. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leaders David G. Michels (202-205-3440 or david.michels@usitc.gov) or Janis L. Summers (202-205-2605 or janis.summers@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

BACKGROUND: Section 1205(a) of the 1988 Act (19 U.S.C. 3005(a)) requires that the Commission keep the HTS under continuous review and periodically recommend to the President such modifications in the HTS as the Commission considers necessary or appropriate to accomplish five general objectives, including to conform the Harmonized Tariff Schedule with amendments made to the Harmonized System Convention (to which the United States is a signatory) and to promote the uniform application of the Harmonized System Convention and particularly the Annex [Protocol] thereto, which contains the HS nomenclature structure and accompanying legal notes and rules. Section 1205(b)-(c) sets out procedures that the Commission must follow in making and reporting recommendations, including to provide notice of proposed recommendations to interested parties and provide such parties with an opportunity to present their views in writing. Section 1205(d) sets forth certain requirements regarding the recommendations the Commission is authorized to make to the President.

The Commission is publishing its proposed recommendations in this investigation in the annex attached to this notice. Interested parties will have until February 22, 2013, to present their views in writing. See further instructions below relating to the time, place, and form for filing written views, including requirements relating to the submission of any confidential business information.

The modifications being considered by the Commission at this time fall into two categories. The first category concerns modifications to two HTS chapters inadvertently omitted from Commission consideration when the Commission submitted a report to the President in June 2010 in investigation No. 1205-7, Proposed Modifications to the Harmonized Tariff Schedule of the United States, USITC Publication 4166). That investigation involved more than 200 amendments to the HS recommended by the WCO to be made effective on January 1, 2012. Most of the changes recommended by the WCO were made effective for the United States on February 3, 2012, pursuant to Proclamation 8771 of December 29, 2011 (see annexes thereto published in USITC Publication 4276, December 2011). This first category of modifications involves the following goods:

(1) Inserting three new HS 6-digit subheadings for sensitized, unexposed photographic film in rolls from HTS chapter 37, and

(2) Providing specifically for cordless video game console controllers which use infrared transmissions to operate or access the various functions and capabilities of the console in a duty-free tariff rate line in chapter 85, following the insertion of a new legal note in chapter 95 that excludes these goods from chapter 95.

The second category of modifications involves certain chemical products that are either incorrectly named or incompletely described in terms of the chemicals nomenclature of the HS, and others that are specified under HTS rate lines that do not cover such products. Based on information about their structure and characteristics supplied by interested firms, the possible modifications are intended to ensure that the affected products can be correctly classified and named in the HS/HTS structure. The Commission is seeking input from other federal agencies and the public to ensure that no duty rate changes on imported goods would result if the following modifications are proclaimed:

(1) “1,6-hexanediol bis(3,5-dibutyl-4-hydroxyphenyl)propionate)” would be removed from HTS subheading 2918.99.05 and inserted into subheading 2918.29.04;

(2) “4,4′-Methylenebis(3-chloro-2,6-diethylaniline); 4,4′-Methylenebis(2,6-diisopropylaniline)” would be removed from subheading 2921.42.36 and inserted into subheading 2921.59.17;

(3) Subheading 2933.99.87 would be deleted and its product coverage and rates of duty would be inserted as new subheading 2933.69.50;

(4) A technical correction in the chemical name of the sole product provided for in subheading 2934.31.18 would be made, deleting from the current description “4,1” and inserting in lieu thereof “yl”;

(5) The chemical “3-Methylene-7-(2-phenoxyacetamido)-cephan-4-carboxylic acid, p-nitrobenzyl ester, 1-oxide” would be deleted from subheading 2934.99.03;

(6) The chemical “2-Methyl-2,5-dioxo-1-oxa-2-phospholan” would be deleted from subheading 2934.99.70; and

(7) The words “modified or” would be inserted after “not” in subheading 3002.10.02.

Information currently available to the Commission indicates that the duty rates for the goods involved in the investigation would not be affected by the proposed modifications. Input from other federal agencies and the public is sought to confirm that no duty rate changes on imported goods would result if the modifications contained in the proposed recommendations are proclaimed. Copies of liquidated customs entries, with confidential information redacted, should be filed with any submission asserting that a previously imposed duty rate would change if the proposed recommended modifications are proclaimed.

WRITTEN SUBMISSIONS: Written submissions expressing the views of interested parties on the proposed Commission recommendations should be addressed to the Secretary, and should be received not later than 5:15 p.m., February 22, 2013. All written submissions must conform with the provisions of section 201.8 of the Commission's Rules of Practice and Procedure (19 CFR 201.8). Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the confidential or non-confidential version, and that the confidential business information be clearly identified by means of brackets. All written submissions, except for confidential business information, will be made available for inspection by interested parties. Any confidential business information received by the Commission in this investigation and used in preparing this report will not be published in a manner that would reveal the operations of the firm supplying the information.

By order of the Commission.
Issued: December 20, 2012.
Lisa R. Barton,
Acting Secretary to the Commission.

Proposed Recommendations for Modifications to the Harmonized Tariff Schedule of the United States

Proposed recommendations for modifications to the Harmonized Tariff Schedule of the United States (HTS) that were recommended by the WCO, with bracketed material inserted for ease of use and with new material inserted in the HTS columns entitled “Heading/Subheading”, “Article Description”, “Rates of Duty 1 General”, “Rates of Duty 1 Special”, and “Rates of Duty 2”, respectively:

37-1. Subheadings 3702.91.01 through 3702.95.00 are deleted, and the following new subheadings are inserted in lieu thereof:

[Photographic film in rolls, sensitized, unexposed, of any material other than paper, paperboard or textiles; instant print film in rolls, sensitized, unexposed:]

[Other:]

“3702.96.00 | Of a width not exceeding 35 mm and of a length not exceeding 30 m | 3.7% | Free (A,AU,BH,CA,CL,CO,E,IL,J,JO,KR,MA,MX,OM,P,PA,PE,SG) | 25%
3702.97.00 | Of a width not exceeding 35 mm and of a length exceeding 30 mm |  | Free | 38¢/m²
3702.98.00 | Of a width exceeding 35 mm | 3.7% | Free (A,AU,BH,CA,CL,CO,E,IL,J,JO,KR,MA,MX,OM,P,PA,PE,SG) | 25%”

85-1. Subheading 8543.70.92 is redesignated as subheading 8543.70.93, and the article description of such redesignated subheading is modified by inserting at the end thereof the language “; cordless video game console controllers which use infrared transmissions to operate or access the various functions and capabilities of the console”.

Proposed recommendations for modifications to the HTS relating to chemicals products in the current HTS (these chemical descriptions have also appeared in previous editions of the HTS), with bracketed material inserted for ease of use and with new material inserted in the HTS columns entitled “Heading/Subheading”, “Article Description”, “Rates of Duty 1 General”, “Rates of Duty 1 Special”, and “Rates of Duty 2”, respectively:

29-1. (a) Subheading 2918.99.05 is modified by deleting from the article description the chemical “1,6-hexanediol bis(3,5-dibutyl-4-hydroxyphenyl)propionate)”; and

(b) Subheading 2918.29.04 is modified by inserting in the article description in alphabetical order the chemical “1,6-hexanediol bis(3,5-dibutyl-4-hydroxyphenyl)propionate)”.

29-2. (a) Subheading 2921.42.36 is modified by deleting from the article description the chemical “4,4′-Methylenebis(3-chloro-2,6-diethylaniline); 4,4′-Methylenebis(2,6-diisopropylaniline);”; and

(b) Subheading 2921.59.17 is modified by inserting in the article description in alphabetical sequence the chemicals “4,4′-Methylenebis(3-chloro-2,6-diethylaniline);” and

“4,4′-Methylenebis(2,6-diisopropylaniline);”

29-3. (a) Subheading 2933.99.87 is deleted; and

(b) The following new subheading 2933.69.50 is inserted in numerical sequence:

[Heterocyclic compounds with nitrogen heteroatoms only:]

[Compounds containing an unfused triazine ring (whether or not hydrogenated) in the structure:]

“2933.69.50 | Hexamethylenetetramine | 6.3% | Free (A,AU,BH,CA,CL,CO,E,IL,J,JO,MA,MX,OM,P,PA,PE,SG) 4.2% (KR) | 58%”

Note: Previously proclaimed staged reductions in duty under the United States-Korea Free Trade Agreement for subheading 2933.99.87 would be applied to this provision.

29-4. Subheading 2934.31.18 is modified by deleting from the article description the language “4,1” and by inserting “yl” in lieu thereof.

29-5. Subheading 2934.99.03 is modified by deleting from the article description the chemical “3-Methylene-7-(2-phenoxyacetamido)-cephan-4-carboxylic acid, p-nitrobenzyl ester, 1-oxide”.

29-6. Subheading 2934.99.70 is modified by deleting from the article description the chemical “2-Methyl-2,5-dioxo-1-oxa-2-phospholan;”.

30-1. Subheading 3002.10.02 is modified by inserting “modified or” after “not” in the article description.

[FR Doc. 2012-31053 Filed 12-26-12; 8:45 am]

BILLING CODE 7020-02-P